DEPARTMENT OF TRANSPORTATION

Federal Motor Carrier Safety Administration

National Hazardous Materials Route Registry

AGENCY: Federal Motor Carrier Safety Administration (FMCSA), Department of Transportation (DOT).

ACTION: Notice; revisions to the listing of designated and restricted routes for hazardous materials.

SUMMARY: This notice provides revisions to the National Hazardous Materials Route Registry (NHMRR) reported to the FMCSA from April 1, 2018 through March 31, 2019. The NHMRR is a listing, as reported by States and Tribal governments, of all designated and restricted roads and preferred highway routes for transportation of highway route controlled quantities of Class 7 radioactive materials and non-radioactive hazardous materials.

DATES: These revisions are effective September 24, 2019.

FOR FURTHER INFORMATION CONTACT: Mr. Vincent Babich at (202) 366-4871, or vincent.babich@dot.gov; or Ms. Melissa Williams at (202) 366-4163 or melissa.williams@dot.gov, Hazardous Materials Division, Office of Enforcement and Compliance, Federal Motor Carrier Safety Administration, 1200 New Jersey Ave. SE, Washington, DC 20590. Office hours are from 9 a.m. to 5 p.m. ET., Monday through Friday, except for Federal holidays.

Legal Basis and Background

Paragraphs (a)(2) and (b) of section 5112 of title 49 United States Code (U.S.C.) permit States and Tribal governments to designate and limit highway routes over which hazardous materials (HM) may be transported, provided the State or Tribal government complies with standards prescribed by the Secretary of Transportation (the Secretary) and meets publication requirements in section 5112(c). To establish standards under paragraph (b), the Secretary must consult with the States, and, under section 5112(c), coordinate with the States to “update and publish periodically” a list of currently effective HM highway routing designations and restrictions. The requirements that States and Tribal governments must follow to establish, maintain, or enforce routing designations for the transport of placardable quantities of non-radioactive hazardous materials (NRHM) are set forth in 49 CFR part 397, subpart C. Subpart D of part 397 sets out the requirements for designating preferred routes for highway route controlled quantities of Class 7 radioactive materials (HRCQ/RAM) shipments as an alternative, or in addition, to Interstate System highways. For HRCQ/RAM shipments, § 397.101 defines a preferred route as an Interstate Highway for which no alternative route is designated by the State; a route specifically designated by the State; or both. (See § 397.65 for the definition of “NRHM” and “routing designations.”)

Under a delegation from the Secretary,¹ FMCSA has authority to implement 49 U.S.C. 5112.

¹ 49 CFR 1.87(d)(2).

Currently, 49 CFR 397.73 establishes public information and reporting requirements for NRHM. States or Tribal governments are required to furnish information regarding any new or changed routes to FMCSA within 60 days after establishment. Under 49 CFR 397.103, a State routing designation for HRCQ/RAM routes (preferred routes) as an alternative, or in addition, to an Interstate System highway, is effective when the authorized routing agency provides FMCSA with written notification, FMCSA acknowledges receipt in writing, and the route is published in FMCSA's NHMRR. The Office of Management and Budget has approved these collections of information under control number 2126-0014, Transportation of Hazardous Materials, Highway Routing.

In this notice, FMCSA is merely performing the ministerial function of updating and publishing the NHMRR based on input from its State and Tribal partners under 49 U.S.C. 5112(c)(1). Accordingly, this notice serves only to provide the most recent revisions to the NHMRR; it does not establish any new public information and reporting requirements.

Updates to the NHMRR

FMCSA published the full NHMRR in a Federal Register Notice on April 29, 2015 (80 FR 23859). Since publication of the 2015 notice, FMCSA published two updates to the NHMRR in Federal Register Notices on August 8, 2016 (81 FR 52518) and August 9, 2018 (83 FR 39500).

This notice provides revisions to the NHMRR, reported to the FMCSA from April 1, 2018 through March 31, 2019. The revisions to the NHMRR listings in this notice supersede and replace corresponding NHMRR listings published in the April 29, 2015 notice and corresponding revisions to the NHMRR listings published in the August 8, 2016 and August 9, 2018 notices. Continue to refer to the April 29, 2015 notice for additional background on the NHMRR and the August 8, 2016 notice for the procedures for State and Tribal government routing agencies to update their Route Registry listings and contact information.

The full current NHMRR for each state is posted on the FMCSA's internet website at: https://www.fmcsa.dot.gov/regulations/hazardous-materials/national-hazardous-materials-route-registry.

Revisions to the NHMRR in This Notice

In accordance with the requirements of 49 CFR 397.73 and 397.103, the NHMRR is being revised as follows:

Table 2.—California—Designated NRHM Routes

Route Order Designator “A6A-3.0-B3” is revised to remove “B” designation.

Route Order Designator “A10Q-3.0” is deleted.

Route Order Designator “A11P-1.0-A (“B” designation)” is revised to remove QA comment.

Route Order Designator “A11P-1.0-B” is revised.

Route Order Designator “A11Q-3.0” is deleted.

Route Order Designator “A12P-1.0-A1” is deleted.

Route Order Designator “A12P-2.0-C1” is revised.

Route Order Designator “A12Q-3.0” is deleted.

Route Order Designator “A17Q-1.0-A” is deleted.

Route Order Designator “A18Q-1.0-A” is deleted.

Route Order Designator “A19Q-1.0-A” is deleted.

Route Order Key

Each listing in the NHMRR includes codes to identify each route designation and each route restriction reported by the State. Designation codes identify the routes along which a driver may or must transport specified HM. Among the designation codes is one for preferred routes, which apply to the transportation of a highway route controlled quantity of Class 7 (radioactive) material. Restriction codes identify the routes along which a driver may not transport specified HM shipments. Table 1 presents information on each restriction and designation code.

Table 1—Restriction/Designation Key
Restrictions | Designations
0—ALL Hazardous Materials | A—ALL NRHM Hazardous Materials.
1—Class 1—Explosives | B—Class 1—Explosives.
2—Class 2—Gas | I—Poisonous Inhalation Hazard (PIH).
3—Class 3—Flammable | P—*Preferred Route* Class 7—Radioactive.
4—Class 4—Flammable Solid/Combustible
5—Class 5—Organic
6—Class 6—Poison
7—Class 7—Radioactive
8—Class 8—Corrosives
9—Class 9—Dangerous (Other)
i—Poisonous Inhalation Hazard (PIH)

Revisions to the National Hazardous Materials Route Registry (March 31, 2019)

Table 2—California—Designated NRHM Routes
Designation date | Route order | Route description | City | County | Designation(s) (A,B, I,P) | FMCSA QA comment
10/28/92 and 04/16/92 | A6A-3.0-B3 | Lenwood Rd. from State 58 to Interstate 15 |  | San Bernardino | I | This route will be considered by the California Highway Patrol for removal in a future rulemaking.
10/28/92 | A11P-1.0-A | State 58 from State 33 [McKittrick] to Interstate 15 [Barstow] |  |  | B
10/28/92 | A11P-1.0-B | State 180 from State 33 [Mendota] to McCall Ave. [Fresno] |  | Fresno | B
10/28/92 | A12P-2.0-C1 | State 41 from State 46 [Cholame] to State 99 |  |  | B

End of Revisions to the National Hazardous Materials Route Registry

Issued on: September 17, 2019.
Raymond P. Martinez,
Administrator.

[FR Doc. 2019-20587 Filed 9-23-19; 8:45 am]

BILLING CODE 4910-EX-P